DEPARTMENT OF AGRICULTURE

Animal and Plant Health Inspection Service

9 CFR Part 94

[Docket No. 04-083-3]

Add Argentina to the List of Regions Considered Free of Exotic Newcastle Disease

AGENCY: Animal and Plant Health Inspection Service, USDA.

ACTION: Final rule.

SUMMARY: We are amending the regulations by adding Argentina to the list of regions considered free of exotic Newcastle disease. We have conducted a risk evaluation and have determined that Argentina has met our requirements for being recognized as free of this disease. This action eliminates certain restrictions on the importation into the United States of poultry and poultry products from Argentina. We are also adding Argentina to the list of regions that, although declared free of exotic Newcastle disease, must provide an additional certification to confirm that any poultry or poultry products offered for importation into the United States originate in a region free of exotic Newcastle disease and that, prior to importation into the United States, such poultry or poultry products were not commingled with poultry or poultry products from regions where exotic Newcastle disease exists.

DATES: Effective Date: March 1, 2006.

FOR FURTHER INFORMATION CONTACT: Dr. David Nixon, Senior Staff Veterinarian, Regionalization Evaluation Services, National Center for Import and Export, VS, APHIS, 4700 River Road Unit 38, Riverdale, MD 20737-1231; (301) 734-4356.

SUPPLEMENTARY INFORMATION:

Background

The regulations in 9 CFR part 94 (referred to below as the regulations) govern the importation into the United States of specified animals and animal products in order to prevent the introduction of various animal diseases, including exotic Newcastle disease (END). END is a contagious, infectious, and communicable disease of birds and poultry. Section 94.6 of the regulations provides that END is considered to exist in all regions of the world except those listed in § 94.6(a)(2), which are considered to be free of END.

The Government of Argentina requested that APHIS evaluate Argentina's animal health status with respect to END and provided information in support of that request in accordance with 9 CFR part 92, “Importation of Animals and Animal Products: Procedures for Requesting Recognition of Regions.”

On August 23, 2005, we published in the Federal Register (70 FR 49200-49207, Docket No. 04-083-1) a proposal to amend the regulations by adding Argentina to the list of regions considered free of END. We also proposed to add Argentina to the list of regions that, although declared free of END, must provide an additional certification to confirm that any poultry or poultry products offered for importation into the United States originate in a region free of END and that, prior to importation into the United States, such poultry or poultry products were not commingled with poultry or poultry products from regions where END exists. On September 8, 2005, we published a document in which we corrected an Internet address and Web site navigation instructions that had been provided in the proposed rule (see 70 FR 53313, Docket No. 04-083-2).

We solicited comments concerning our proposal for 60 days ending October 24, 2005. We did not receive any comments. Therefore, for the reasons given in the proposed rule, we are adopting the proposed rule as a final rule, without change.

Executive Order 12866 and Regulatory Flexibility Act

This rule has been reviewed under Executive Order 12866. For this action, the Office of Management and Budget has waived its review under Executive Order 12866.

Under the regulations in 9 CFR part 94, the importation into the United States of poultry and poultry products that originate in or transit any region where END exists is generally prohibited. Furthermore, even if a region is considered free of END, the importation of poultry and poultry products from that region may be restricted depending on the region's proximity to or trading relationships with countries or regions where END is present.

This rule amends the regulations by adding Argentina to the list of regions considered free of END. However, since Argentina shares borders with regions that the United States does not recognize as free of END, we are also requiring Argentina to meet additional certification requirements for live poultry and poultry products imported into the United States to ensure that the imports are free from END.

Over the past several years, Argentina's poultry industry has increased substantially as shown in table 1. Although Argentina exports eggs, which typically are destined to Denmark, the main export for Argentina is poultry meat. Argentina exports poultry meat and products to 34 countries, with Chile expected to be the largest importer. In 2003, Argentina exported $22 million of poultry meat including whole broilers (36 percent), chicken paws (30 percent), processed meat from layers (5 percent), and other products and byproducts such as wings, nuggets, burgers, offal, and breasts (29 percent). Exports for poultry meat in 2004 are projected at 70,000 tons, almost twice the amount exported in 2003. In 2005, exports are projected to reach 110,000 metric tons.

Table 1.—Poultry Exports, Imports, and Production in Argentina
[In metric tons]
Year | Poultry imports | Poultry exports | Poultry production
1998 | 65,215 | 18,936 | 930,247
1999 | 55,608 | 17,097 | 982,860
2000 | 45,683 | 19,187 | 1,000,260
2001 | 26,661 | 21,243 | 993,122
2002 | 1,196 | 30,501 | 972,870
Source: FAOSTAT Argentina Poultry, last accessed November 2004.

In 2003, poultry production in the United States totaled 38.5 billion pounds for a total value of $23.3 billion. Broiler meat accounted for $15.2 billion (65 percent) of this value in 2003. The remaining worth was comprised of the value of eggs ($5.3 billion), turkey ($2.7 billion), and other chicken products ($48 million). The United States is also the world's largest exporter of broilers, with broiler exports totaling 4.93 billion pounds, the equivalent of $1.5 billion, in 2003. Imports of broiler products into the United States in 2003 totaled 12 million pounds, or less than 1 percent of the domestic production.

In 2002, there were approximately 32,006 broiler and other meat producing chicken farms in the United States, as shown in table 2. Under the Small Business Administration's size standards, broiler and other meat production chicken farms with less than $750,000 in annual sales, which is the equivalent of 300,000 birds, qualify as small businesses. Given this information, about 20,949, or 64.5 percent of all broiler operations, qualify as small businesses.

Table 2.—Number of Farms Selling Broilers and Other Meat-Type Chickens, 2002
Number sold | Farms | Number | Average sales per farm (dollars)
Broilers and other meat-type chickens | 32,006 | 8,500,313,357 | $766,498
1 to 1,999 | 10,869 | 1,146,308 | 304
2,000 to 15,999 | 406 | 2,871,466 | 20,412
16,000 to 29,999 | 206 | 4,420,530 | 61,932
30,000 to 59,999 | 444 | 19,732,838 | 128,267
60,000 to 99,999 | 1,060 | 84,498,647 | 230,066
100,000 to 199,999 | 3,311 | 498,386,958 | 434,425
200,000 to 299,999 | 4,653 | 1,137,668,155 | 705,651
300,000 to 499,999 | 5,754 | 2,191,324,340 | 1,099,118
500,000 or more | 5,303 | 4,560,264,115 | 2,481,853
Source: 2002 Census of Agriculture, Table 27.

Broiler production in the United States is concentrated in a group of States stretching from Delaware south along the Atlantic coast to Georgia, then westward through Alabama, Mississippi, and Arkansas. These States accounted for over 70 percent of broilers in the United States in 2003. The top five broiler producing States are Georgia, Arkansas, Alabama, Mississippi, and North Carolina, whose 2002 broiler sales are listed below in table 3.

Table 3.—Number of Farms Selling Broilers in Selected States, 2002
Number of broilers sold per farm | U.S. total | Alabama | Arkansas | Georgia | Mississippi | North Carolina | Total for top five producing States
1 to 1,999 | 10,869 | 89 | 79 | 46 | 104 | 13 | 331
2,000 to 59,999 | 1,056 | 20 | 103 | 49 | 86 | 101 | 359
60,000 to 99,999 | 1,060 | 57 | 199 | 84 | 97 | 158 | 595
100,000 to 199,999 | 3,311 | 385 | 634 | 25 | 210 | 539 | 1,793
200,000 to 499,999 | 10,407 | 1,328 | 1,927 | 1,335 | 883 | 1,284 | 6,757
500,000 or more | 5,303 | 72 | 578 | 959 | 548 | 349 | 2,506
Source: 2002 Census of Agriculture State Data Table.

Poultry meat imported from Argentina could potentially affect the United States poultry industry. Consumers will benefit from any price decreases for poultry and poultry products, while producers will potentially be negatively affected by more competitive prices. However, the amount of poultry or poultry products that may be imported from Argentina is not expected to have a significant impact on poultry consumers or producers in the United States. In 2003, Argentina exported a total of $22 million worth of poultry and poultry products while the United States produced $15.2 billion worth of broilers. Given these numbers, any exports from Argentina are not likely to be in quantities sufficient to have a significant impact on U.S. poultry producers, and we do not anticipate that any U.S. entities, small or otherwise, will experience any significant economic effects as a result of this action. It should also be noted that Argentina is not currently eligible to export poultry products to the United States under the regulations of the Department's Food Safety and Inspection Service in 9 CFR 381.196 for approving foreign facilities to export poultry meat and other poultry products to the United States; there will, therefore, be no economic effects on U.S. entities until establishments in Argentina are approved to export poultry meat and other poultry products to the United States.

Under these circumstances, the Administrator of the Animal and Plant Health Inspection Service has determined that this action will not have a significant economic impact on a substantial number of small entities.

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

This final rule contains no information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

1. The authority citation for part 94 continues to read as follows:

Authority: 7 U.S.C. 450, 7701-7772, 7781-7786, and 8301-8317; 21 U.S.C. 136 and 136a; 31 U.S.C. 9701; 7 CFR 2.22, 2.80, and 371.4.

§ 94.6 [Amended]

2. In § 94.6, paragraph (a)(2) is amended by adding the word “Argentina,” before the word “Australia,”.

3. Section 94.26 is amended as follows:

a. In the introductory text of the section, in the first sentence, by removing the words “The Mexican” and adding the words “Argentina and the Mexican” in their place.

b. In paragraph (a), by removing the words “Government of Mexico” and adding the words “national Government of the exporting region” in their place.

c. In paragraph (c)(1), by removing the words “Government of Mexico” and adding the words “national Government of the exporting region” in their place.

d. In paragraph (c)(4), by removing the words “Government of Mexico” and adding the words “national Government of the exporting region” in their place.

Done in Washington, DC, this 24th day of January 2006.
Kevin Shea,
Acting Administrator, Animal and Plant Health Inspection Service.

[FR Doc. 06-840 Filed 1-27-06; 8:45 am]

BILLING CODE 3410-34-P